DEPARTMENT OF AGRICULTURE

Forest Service

Information Collection; Bid for Advertised Timber

AGENCY: Forest Service, Agriculture (USDA).

ACTION: Notice; request for comment.

SUMMARY: In accordance with the Paperwork Reduction Act of 1995, the Forest Service is seeking comments from all interested individuals and organizations on the extension with no revision of a currently approved information collection, Bid for Advertised Timber.

DATES: Comments must be received in writing on or before January 6, 2025 to be assured of consideration. Comments received after that date will be considered to the extent practicable.

ADDRESSES: Comments concerning this notice should be addressed to Director, Forest Management, 1400 Independence Avenue SW, Mail Stop 1103, USDA Forest Service, P.O. Box 96090, Washington, DC 20090-6090.

Comments also may be submitted via facsimile to 202-205-1045 or by email to: sm.fs.TSAdminForms@usda.gov.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at the following website: https://www.fs.usda.gov/forestmanagement/products/contracts.shtml. The public may request an electronic copy of the draft supporting statement and/or any comments received be sent via return email. Requests should be emailed to sm.fs.TSAdminForms@usda.gov.

FOR FURTHER INFORMATION CONTACT: Kraig Kidwell, Washington Office Natural Resources Forest Management staff, by phone at 541-961-2614 and by email at kraig.kidwell@usda.gov. Individuals who use telecommunications devices for the hearing impaired may call 711 to reach the Telecommunications Relay Service, 24 hours a day, every day of the year, including holidays.

SUPPLEMENTARY INFORMATION:

Title: Bid for Advertised Timber.

OMB Number: 0596-0066.

Expiration Date of Approval: December 31, 2024.

Type of Request: Extension with no Revision of a currently approved information collection.

Abstract: Pursuant to statutory requirements at 16 U.S.C. 472a, unless extraordinary conditions exist as defined by regulation, the Secretary of Agriculture must (1) advertise sales of all National Forest System timber or forest products exceeding $10,000 in appraised value, (2) select bidding methods that ensure open and fair competition, (3) select bidding methods that ensure that the Federal Government receives not less than appraised value of the timber or forest product; and (4) monitor bidding patterns for evidence of unlawful bidding practices.

Pursuant to the Forest Service Small Business Timber Sale Set-Aside Program, developed in cooperation with the Small Business Administration, Forest Service regulations at 36 CFR 223.84 require the Forest Service bid form used by potential timber sale bidders include provisions for small business concerns. The data collected will be used by the agency to ensure that National Forest System timber will be sold at not less than appraised value, that bidders will meet specific criteria when submitting a bid, and that anti-trust violations will not occur during the bidding process.

The tax identification number of each bidder is entered into an automated bid monitoring system, which is used to determine if speculative bidding or unlawful bidding practices are occurring and is required to process electronic payments to the purchaser.

Respondents will be bidders on National Forest System timber sales. Forest Service Sale Officers will provide bid forms to potential bidders, and bidders will return the completed forms, dated and signed, to the Forest Service Sale Officer.

The data gathered in this information collection are not available from other sources.

Forms Associated With This Information Collection

FS-2400-42a—National Forest Timber and Forest Products for Sale (Advertisement and Short-Form Bid): This form will be used for soliciting and receiving bids on short-notice timber sales advertised for less than 30 days for less than $10,000 in advertised value. Respondents are bidders on National Forest System timber sales.

FS-2400-14—Bid for Advertised Timber (3 form versions: FS-2400-14UR—Unit Rate Bidding; FS-2400-14WA—Weighted Average Bidding; FS-2400-14TV—Total Value Bidding): These forms implement the same statutes, policies, and regulations and collect similar information from the same applicants. Respondents are bidders on National Forest System timber and forest product sales.

FS-2400-14BV—Bid for Integrated Resource Timber Contract (2 form versions: FS-2400-14BV—Best Value, Total Value Bidding; FS-2400-14BVU—Best Value, Unit Rate Bidding): These forms will be used for soliciting and receiving bids on contracts advertised for 30 days or longer and on contracts greater than $10,000 in advertised value.

FS-2400-14sb—Substitute Blocks of FS-2400-14UR, FS-2400-14WA, and FS-2400-14TV when sale contains specified roads to a higher standard than is needed to remove timber and the specified road construction cost is $50,000 or greater, or when sale contains specified roads to a higher standard than is needed to remove timber and the specified road construction cost is less than $50,000. Substitution language specific for Region 10 for small business set aside sales is also included in FS-2400-14sb.

Affected Public: Private sector.

Estimate of Burden per Response: 31 hours per response.

Estimated Annual Number of Respondents: 1,824.

Estimated Annual Number of Responses per Respondent: 1.6.

Estimated Total Annual Burden on Respondents: 118,017 hours.

Comment is Invited:

Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

JoLynn D. Anderson,
Agency Federal Register Officer, Policy Office.

[FR Doc. 2024-25714 Filed 11-5-24; 8:45 am]

BILLING CODE 3411-15-P